DEPARTMENT OF DEFENSE

Department of the Navy

Notice of Proposed Conveyance of Excess Land at Marine Corps Air Station (MCAS) Beaufort, SC, in Exchange for Restrictive Easements Pursuant to 10 U.S.C. 2869

AGENCY: Department of the Navy, DoD.

ACTION: Notice.

SUMMARY: This notice provides information on the proposed conveyance of excess land in the Laurel Bay housing area, MCAS Beaufort, SC, in exchange for perpetual restrictive easements to limit encroachment.

FOR FURTHER INFORMATION CONTACT: Mr. Steve Matteo, Naval Facilities Engineering Command, 1322 Patterson Avenue, SE., Suite 1000, Washington Navy Yard, DC 20374-5065, telephone: 202-685-9426. For information concerning real estate, contact Mr. Scott Nobles, Realty Specialist, Naval Facilities Engineering Command, Southeast, North Ajax Street, Building 135, P.O. Box 30, Naval Air Station Jacksonville, Jacksonville, FL 32212-0030, telephone: 904-542-6021.

SUPPLEMENTARY INFORMATION: MCAS Beaufort is a long established Air Station, consisting of some 6,900 acres, 70 miles southwest of Charleston, and four miles from downtown Beaufort, SC, on Highway 21. The Laurel Bay housing area, located four miles from the base proper, is a 1,062-acre tract, of which 691.06 acres are leased to the housing privatization contractor. The majority of the leased tract is improved with residential and related ancillary improvements complete with paved streets and infrastructure typical of a military housing development.

A 45-acre and an 82-acre parcel in the northeast of the housing area are undeveloped, vacant, and excess to Navy and Department of Defense requirements. The Navy proposes to convey the excess land in exchange for perpetual restrictive easements over other lands within MCAS Beaufort's Air Installation Compatible Use Zone to limit encroachment and other constraints on the mission. Title 10, United States Code, Section 2869 authorizes the Navy to convey excess property at an installation in exchange for property interests to be acquired under the terms of an encroachment protection agreement executed in accordance with Title 10, United States Code, Section 2684a.

The Navy executed an encroachment protection agreement with the County of Beaufort on September 28, 2006. In 2008, The Beaufort County Open Land Trust was added to the agreement as a full party to the agreement with the authority to fulfill all or part of the County's obligations. The stated objectives of the agreement are to limit development that is incompatible with the mission of MCAS Beaufort and conservation objectives around the installation, by acquiring interests in certain real property located in the vicinity of MCAS Beaufort.

The Navy proposes to exchange the 127 acres in Laurel Bay for a perpetual restrictive easement interest over approximately 259 acres of land that is part of property known as Clarendon Farms. The 259 acres are located in an area that has been identified for acquisition in the encroachment protection agreement. The restrictive easements to be acquired by the Navy will limit the type and amount of development, as well as incompatible activities that may be conducted on the land.

Dated: September 15, 2008.
T.M. Cruz,
Lieutenant Commander, Judge Advocate General's Corps, U.S. Navy, Federal Register Liaison Officer.

[FR Doc. E8-22039 Filed 9-19-08; 8:45 am]

BILLING CODE 3810-FF-P